DEPARTMENT OF COMMERCE

Membership of the Office of the Secretary Performance Review Board

AGENCY: Department of Commerce.

ACTION: Notice of Membership on the Office of the Secretary Performance Review Board.

SUMMARY: In accordance with 5 U.S.C. 4314(c)(4), Department of Commerce (DOC) announces the appointment of persons to serve as members of the Office of the Secretary (OS) Performance Review Board (PRB). The OS PRB is responsible for reviewing performance ratings, pay adjustments and bonuses of Senior Executive Service (SES) members. The term of the new members of the OS PRB will expire December 31, 2016.

DATES: Effective Date: The effective date of service of appointees to the Office of the Secretary Performance Review Board is upon publication of this notice.

FOR FURTHER INFORMATION CONTACT: Denise A. Yaag, Director, Office of Executive Resources, Office of Human Resources Management, Office of the Director, 14th and Constitution Avenue NW., Washington, DC 20230, (202) 482-3600.

SUPPLEMENTARY INFORMATION: The names, position titles, and type of appointment of the members of the OS/PRB are set forth below by organization: Department of Commerce, Office of the Secretary, 2014-2016, Performance Review Board Membership.

Office of the Secretary

Theodore Constantine Johnston, Director, Office of White House Liaison (Noncareer)

Office of the Chief Financial Officer and Assistant Secretary for Administration

Frederick E. Stephens, Deputy Assistant Secretary for Administration (Noncareer)

Suzan J. Aramaki, Director, Office of Civil Rights (Career)

Narahari Sastry, Deputy Assistant Secretary for Resources Management, Office of Security (Career)

Teresa S. Coppolino, Director, Financial Management Systems (Career)

Gordon T. Alston, Director, Financial Reporting and Internal Controls (Career)

Michael E. Phelps, Director, Office of Budget (Career)

Lisa Casias, Director for Financial Management and Deputy Chief Financial Officer (Career)

Office of the General Counsel

Barbara S. Fredericks, Assistant General Counsel for Administration (Career)

Economics and Statistics Administration

Kenneth A. Arnold, Associate Under Secretary for Management (Career)

Bureau of the Census

Douglas R. Clift, Senior Advisor for Project Management (Career)

Carol M. Rose, Chief Budget Division (Career)

Joanne Buenzli Crane, Associate Director for Administration and Chief Financial Officer (Career)

International Trade Administration

Kurt Bersani, Deputy Chief Financial and Administrative Officer (Career)

National Oceanic and Atmospheric Administration

Russell F. Smith, III, Deputy Assistant Secretary for International Fisheries (Noncareer)

William R. Callender, Deputy Assistant Administrator for Ocean Services & CoastalZone Management (Career)

National Telecommunications and Information Administration

Leonard M. Bechtel, Chief Financial Officer and Director for Administration (Career)

National Technical Information Service

Bruce E. Borzino, Director, National Technical Information Service (Career)

Dated: October 2, 2014.
Denise A. Yaag,
Director, Office of Executive Resources.

[FR Doc. 2014-23955 Filed 10-8-14; 8:45 am]

BILLING CODE 3510-BS-M